FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR Part 515).

Persons knowing of any reason why the following applicants should not receive a license are requested to contact the Office of Transportation Intermediaries, Federal Maritime Commission, Washington, DC 20573.

Non-Vessel Operating Common Carrier Ocean Transportation Intermediary Applicants

Radius International Inc., 580 Chelsea Street, #203A, East Boston, MA 02128. Officers: John R. Deschamps, President, (Qualifying Individual), Kirk E. Koylion, Secretary.

SK Transportation Inc., 300 Piedmont Court, Ste. B, Doraville, GA 30340. Officer: Jong S. Choi, President, (Qualifying Individual).

Sunny Group USA, Inc., 16445 Main Street, La Puente, CA 91744. Officers: Charles Kuo, Secretary, (Qualifying Individual), Kai Lin, CEO.

Caribbean Cargo, D.C., LLC, 5108 Buchanan Street, Unit C, Hyattsville, MD 20781. Officers: Ansel L. Hall, Director, (Qualifying Individual), Royston DeSouza, President.

Caribbean International Shipping Services, Inc., 3034 Miller Road, Lithonia, GA 30038. Officers: Sharon Mitchell-Barnwell, CEO, (Qualifying Individual), Wilford Hoppie, President.

ARC Logistics, Inc., 9505 Aerospace Drive, St. Louis, MO 63134. Officers: Anthony Rimland, President, (Qualifying Individual), Robin Gallagher, Secretary.

ARC Logistics, Inc., 510 Plaza Drive, #2770, Atlanta, GA 30349. Officers: Anthony Rimland, President, (Qualifying Individual), Robin Gallagher, Secretary.

Non-Vessel Operating Common Carrier and Ocean Freight Forwarder Transportation Intermediary Applicants

Cargo Care, LLC, 10842 Kensington Park Avenue, Riverview, FL 33569. Officers: Shelly L. Macaluso, Member, Manager, (Qualifying Individual), Matthew Toomey, Member, Manager.

C&C International Logistics Inc., 99 W. Hawthorne Avenue, #620, Valley Stream, NY 11580. Officer: Chaney Chang, Vice President, (Qualifying Individual).

JBL Services Inc., 625 Gatewood, Garland, TX 75043. Officers: Jerson G. Monterrose, President, (Qualifying Individual), Maria H. Monterrose, Vice President.

Procargo USA LLC, 2135 NW 79 Avenue, Miami, FL 33122. Officers: Jorgelina G. Crespo, Manager, (Qualifying Individual), Pablo A. Lopez, Manager.

Smartex Corp., 5055 NW 74 Avenue, #5, Miami, FL 33166. Officers: Juan C. Betancourt, President, (Qualifying Individual), Maria A. Betancourt, Vice President.

Civaro North America, Inc., dba Athena Express Line, 172 East Manville Street, Unit A, Compton, CA 90220. Officers: Don N. Karunanayake, Secretary, (Qualifying Individual), Devinda Molligoda, Director.

EU, Inc. dba EU Forwarding, 3742 Sepulveda Blvd., Torrance, CA 90505. Officers: June L. Ko, Secretary, (Qualifying Individual), Duck S. Choi, President.

Oceanblue Logistics, Inc., 11427 Hanover Ct., Cerritos, CA 90703. Officer: Ki J. Seong, President, (Qualifying Individual).

CorTrans Logistics, LLC, 5335 Triangle Parkway, #450, Norcross, GA 30092-2594. Officers: Shaemus McNally, Import/Export Spec./Sales, (Qualifying Individual), William R. Cortez, President.

Three Oceans Transport, Inc., 501 East Kennedy Blvd., #1700, Tampa, FL 33602. Officers: James W. Thomas, Vice President, (Qualifying Individual), Graham Bott, President.

ASG Corporation dba RJL Logistics, As Lito Rd., Koblerville Village, CK, Saipan, MP 96950. Officers: Floresto S. Segismundo, President, (Qualifying Individual), Lorna Segismundo, Secretary.

Relocation Benefits, LLC, 3390 Hawk Ridge Trail, Green Bay, WI 54313. Officers: Andrew L. Drescher, President, (Qualifying Individual), Patti L. Drescher, CEO.

CEVA Freight, LLC dba CEVA Ocean Line, EGL Ocean Line, 15350 Vickery Drive, Houston, TX 77032. Officers: Mark Malambri, Asst. Secretary, (Qualifying Individual), Edward J. Bento, President.

Ocean Freight Forwarder—Ocean Transportation Intermediary Applicants

All Points Global Logistics, Inc., 13591 Tarrasa Court East, Jacksonville, FL 32225. Officer: Laura L. Weast, President, (Qualifying Individual).

Allround Logistics Inc., 1809 Fashion Court, Suite 101, Joppa, MD 21085. Officers: Roland Meier, President, (Qualifying Individual), Ellen Meier, Vice President.

AtsaCargo, Inc., 14241 SW 18th Street, Miami, FL 33175. Officers: Arcenio Taveras Numez, Secretary, (Qualifying Individual), Maria Taveras Nunez, President.

Dated: March 7, 2008.
Karen V. Gregory,
Assistant Secretary.

[FR Doc. E8-4916 Filed 3-11-08; 8:45 am]

BILLING CODE 6730-01-P